DEPARTMENT OF THE INTERIOR

Fish and Wildlife Service

Post-Delisting Monitoring Results for the American Peregrine Falcon (Falco peregrinus anatum), 2003

AGENCY: Fish and Wildlife Service, Interior.

ACTION: Notice of document availability.

SUMMARY: The U.S. Fish and Wildlife Service (“we” or “Service”) announces the availability of the results from 2003 monitoring data collected as part of the post-delisting monitoring plan for the American peregrine falcon (Falco peregrinus anatum).

ADDRESSES: U.S. Fish and Wildlife Service, 911 NE 11th Ave, Portland, OR 97232.

FOR FURTHER INFORMATION CONTACT: Michael Green, Migratory Birds and State Programs, at the above address, at michael_green@fws.gov, or at 503-231-6164 (phone) or 503-231-2019 (fax).

SUPPLEMENTARY INFORMATION: This report, titled “Monitoring Results for Breeding American Peregrine Falcons (Falco peregrinus anatum), 2003,” is published under the U.S. Fish and Wildlife Service's Biological Technical Publications series as BTP-R1005-2006. The American peregrine falcon was removed from the List of Endangered and Threatened Wildlife and Plants on August 25, 1999, due to its recovery (64 FR 46541). This report presents results from the first of 5 monitoring years, as described in the Service's “Monitoring Plan for the American Peregrine Falcon, A Species Recovered Under the Endangered Species Act.” A Notice of Availability for the monitoring plan was published on December 3, 2003 (68 FR 67697).

Background

The American peregrine falcon occurs throughout much of North America, from the subarctic boreal forests of Alaska and Canada south to Mexico. American peregrine falcons nest from central Alaska, central Yukon Territory, and northern Alberta and Saskatchewan, east to the Maritime Provinces, and south (excluding coastal areas north of the Columbia River in Washington and British Columbia) throughout western Canada and the United States to Baja California, Sonora, and the highlands of central Mexico. American peregrine falcons that nest in subarctic areas generally winter in South America. Those that nest at lower latitudes exhibit variable migratory behavior; some do not migrate.

The American peregrine falcon declined precipitously in North America following World War II, a decline attributed largely to organochlorine pesticides, mainly DDT, applied in the United States, Canada, and Mexico. As a result. the American peregrine falcon was listed as endangered on June 2, 1970, under the precursor of the Endangered Species Act (35 FR 16047). Following restrictions on organochlorine pesticides in the United States and Canada, and implementation of various management actions, including the release of approximately 6000 captive-reared falcons, recovery goals were substantially exceeded in some areas. On August 25, 1999, the American peregrine falcon was removed from the List of Endangered and Threatened Wildlife and Plants (64 FR 46541).

Section 4(g)(1) of the Endangered Species Act requires that, in cooperation with the States, we effectively monitor for not less than 5 years the status of all species removed from the List of Endangered and Threatened Wildlife and Plants due to recovery. In keeping with that mandate, we developed a monitoring plan (“Monitoring Plan for the American Peregrine Falcon, A Species Recovered Under the Endangered Species Act”) to guide our monitoring efforts in cooperation with State resource agencies, recovery team members, independent scientists, biostatisticians, and other partners. Our plan calls for monitoring peregrine falcons five times at 3-year intervals beginning in 2003 and ending in 2015. This report presents the results of the first of these monitoring years.

Over 300 individuals contributed their observations at 438 peregrine falcon territories across six monitoring regions in 2003. These included Federal and State agency personnel, members of tribes, non-governmental organizations, volunteers, and many others. Although we monitored only 36 of the targeted 96 territories in the Southwestern monitoring region, sufficient numbers of territories were surveyed in each of the other five monitoring regions to meet the statistical criteria described in the monitoring plan. Our estimates of territory occupancy, nest success, and productivity were above the target values that we set in the monitoring plan for those nesting parameters. Additional data collected by States and others indicate that there were 3,005 nesting pairs of American peregrine falcons in the United States, Canada, and Mexico in 2003, compared to approximately 1,750 pairs at the time of delisting. Additionally, 92 percent of pairs nest on natural substrates in all regions except the Midwestern/Northeastern region, where only 32 percent nest on natural substrates. Our estimates of the nesting parameters and the additional data from across the United States indicate that the peregrine falcon population is secure and vital. The next coordinated nationwide monitoring effort, scheduled for 2006, is underway.

Copies of the 2003 monitoring results may be requested from Michael Green (see contact information, above). This report is also available on the Internet at http://www.fws.gov/endangered/recovery/peregrine/.

Authority

The authority for this action is the Endangered Species Act of 1973, as amended (16 U.S.C. 1531 et seq.).

Dated: October 6, 2006.
Chris McKay,
Regional Director, Region 1, Fish and Wildlife Service.

[FR Doc. E6-17009 Filed 10-12-06; 8:45 am]

BILLING CODE 4310-55-P